NATIONAL SCIENCE FOUNDATION

Special Emphasis Panel in Integrative Activities; Meeting

In accordance with the Federal Advisory Committee Act (Pub. L. 92-463, as amended), the National Science Foundation announces the following meeting:

Name: Special Emphasis Panel in Integrative Activities (1373).

Date and Time: Tuesday, September 11, 2000—8:30 a.m.-10:00 p.m., Wednesday, September 12, 2000—8:00 a.m.-5:00 p.m., Thursday, September 13, 2000—8:00 a.m.-4:00 p.m.

Place: Department of Chemistry, University of North Carolina, Chapel Hill, NC 27599.

Type of Meeting: Closed.

Contact Person: Donald Burland, Executive Officer, Division of Chemistry National Science Foundation, Room 1055, 4201 Wilson Boulevard, Arlington, VA 22230. (703) 292-4949.

Purpose of Meeting: To provide advice and recommendations concerning further NSF support of the Center for Environmentally Responsible Solvents and Processes.

Agenda: To review and evaluate the progress to date on all aspects of the Center for Environmentally Responsible Solvents and Processes.

Reason for Closing: The project being reviewed includes information of a proprietary or confidential nature, including technical information; financial data and personal information concerning individuals associated with the proposals. These matters are exempt under 5 U.S.C. 552b(c), (4) and (6) of the Government in the Sunshine Act.

Dated: August 18, 2000.
Karen J. York,
Committee Management Officer.

[FR Doc. 00-21553 Filed 8-22-00; 8:45 am]

BILLING CODE 7555-01-M